DEPARTMENT OF LABOR

Employment and Training Administration

[TA-W-39,009, TA-W-39,009A, and TA-W-39,009B]

Astaris LLC, Pocatello, ID; Astaris LLC, Princeton, NJ; Astaris LLC, Denver, CO; Amended Certification Regarding Eligibility To Apply for Worker Adjustment Assistance

In accordance with section 223 of the Trade Act of 1974 (19 U.S.C. 2273) the Department of Labor issued a Notice of Certification Regarding Eligibility to Apply for Worker Adjustment Assistance on June 18, 2001, applicable to workers of Astaris LLC, Pocatello, Idaho. The notice was published in the Federal Register on June 5, 2001 (66 FR 35463).

At the request of the company, the Department reviewed the certification for workers of the subject firm. The workers were engaged in the production of elemental phosphorus.

New information shows that worker separations occurred at the Princeton, New Jersey and Denver, Colorado locations of Astaris LLC when they closed in November 2001 and January 2002 respectively. These locations provided technical research and engineering support services solely to the subject firms' production facility in Pocatello, Idaho which closed in 2001.

Accordingly, the Department is amending the certification to include the workers of the Princeton, New Jersey and Denver, Colorado locations of Astaris LLC.

The intent of the Department's certification is to include all workers of Astaris LLC who were adversely affected by increased imports.

The amended notice applicable to TA-W-39,009 is hereby issued as follows:

All workers of Astaris LLC, Pocatello, Idaho (TA-W-39,009), Astaris LLC, Princeton, New Jersey (TA-W-39,009A) and Astaris LLC, Denver, Colorado (TA-W-39,009B) who became totally or partially separated from employment on or after April 2, 2000, through June 18, 2003, are eligible to apply for adjustment assistance under Section 223 of the Trade Act of 1974.

Signed at Washington, DC this 4th day of February, 2002.
Edward A. Tomchick,
Director, Division of Trade Adjustment Assistance.

[FR Doc. 02-5582 Filed 3-7-02; 8:45 am]

BILLING CODE 4510-30-M